NUCLEAR REGULATORY COMMISSION

Sunshine Act Meeting

Agency Holding The Meeting: Nuclear Regulatory Commission.

Dates: Weeks of November 24, December 1, 8, 15, 22, 29, 2003.

Place: Commissioners' Conference Room, 11555 Rockville Pike, Rockville, Maryland.

Status: Public and Closed.

Matters to Be Considered:

Week of November 24, 2003

There are no meetings scheduled for the Week of November 24, 2003.

Week of December 1, 2003—Tentative

There are no meetings scheduled for the Week of December 1, 2003.

Week of December 8, 2003—Tentative

Tuesday, December 9, 2003

1:30 p.m. Briefing on Equal Employment Opportunity Program, (Public Meeting) (Contact: Corenthis Kelley, 301-415-7380).

Wednesday, December 10, 2003

9:30 a.m. Briefing on Strategic Workforce Planning and Human Capital Initiatives (Closed—Ex. 2).

Week of December 15, 2003—Tentative

Tuesday, December 16, 2003

9:30 a.m. Discussion of Security Issues (Closed—Ex.1).

Week of December 22, 2003—Tentative

There are no meetings scheduled for the Week of December 22, 2003.

Week of December 29, 2003—Tentative

There are no meetings scheduled for the Week of December 29, 2003.

* The schedule for Commission meetings is subject to change on short notice. To verify the status of meetings call (recording)—(301) 415-1292. Contact person for more information: R. Michelle Schroll, (301) 415-1662.

* * * * *

Additional Information:

By a vote of 3-0 on November 19, the Commission determined pursuant to U.S.C. 552b(e) and § 9.107(a) of the Commission's rules that “Affirmationof (1) Final Rule to Rule to Revise 10 CFR Part 71 to be Compatible with IAEA Transportation Safety Standards [TS-R-1] and Make Other NRC-Initiated Changes” be held on November 20, and on less than one week's notice to the public.

* * * * *

The NRC Commission Meeting Schedule can be found on the Internet at: www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: November 21, 2003.
Dave Gamberoni,
Office of the Secretary.

[FR Doc. 03-29785 Filed 11-25-03; 10:03 am]

BILLING CODE 7590-01-M